DEPARTMENT OF HEALTH AND HUMAN SERVICES

Agency for Toxic Substances and Disease Registry

[CDC-2011-0014]

Availability of Draft Vieques Report: An Evaluation of Environmental, Biological, and Health Data From the Island of Vieques, Puerto Rico

AGENCY: Agency for Toxic Substances and Disease Registry (ATSDR), Department of Health and Human Services (DHHS).

ACTION: Notice of availability and request for public comment.

SUMMARY: This notice announces the availability of the Draft Vieques Report: An Evaluation of Environmental, Biological, and Health Data from the Island of Vieques, Puerto Rico for review and comment. This report's principal focus is to review updated environmental data on Vieques air, water, soil, seafood, and locally grown foods. In addition, this report evaluates human biomonitoring and health outcome data. ATSDR is providing a public comment period for this draft report as a means to best serve public health and the residents of Vieques, Puerto Rico. The Draft Vieques Report is available in English and Spanish at www.regulations.gov in the docket identified by Docket ID No. CDC-2011-0014 and www.atsdr.cdc.gov/sites/vieques/.

DATES: Written comments must be received on or before January 11, 2012.

ADDRESSES: Requests for Compact Disc copies of the draft Vieques Report should be sent via email to: ATSDRRecordsCenter@cdc.gov, or to Rolanda Morrison, ATSDR Records Center, Mailstop F-09, 4770 Buford Highway NE., Atlanta, GA 30341. Electronic access to this document is also available at the ATSDR Web site: www.atsdr.cdc.gov/sites/vieques/.

Electronic comments may be sent via http://www.regulations.gov, docket control number CDC-2011-0014. Please follow the directions on the site to submit comments. Comments may also be sent to the attention of Rolanda Morrison, ATSDR Records Center, Mailstop F-09, 4770 Buford Highway NE., Atlanta, GA 30341, Send one copy of all comments and three copies of all supporting documents. Comments may also be submitted by email to ATSDRecordsCenter@cdc.gov. Please ensure docket control number CDC-2011-0014 is included in the subject line of all written correspondence. Because all public comments regarding this draft report are available for public inspection, no confidential business information or other confidential information should be submitted in response to this notice.

FOR FURTHER INFORMATION CONTACT: The Division of Health Assessment and Consultation, Agency for Toxic Substances and Disease Registry, Mailstop F-59, 1600 Clifton Road NE., Atlanta, Georgia 30333, email: viequesreport@cdc.gov.

SUPPLEMENTARY INFORMATION: The Agency for Toxic Substances and Disease Registry (ATSDR) is required by the Comprehensive Environmental Response, Compensation, and Liability Act of 1980 (CERCLA), as amended by the Superfund Amendments and Reauthorization Act of 1986 (SARA), to conduct public health assessments at all sites on, or proposed for inclusion on, the National Priorities List [42 U.S.C. 9604(i)(6)(A)], and the agency may also conduct public health assessments in response to requests from the public [42 U.S.C. 9604(i)(6)(B)]. In addition, the U.S. Environmental Protection Agency (EPA) may request the conduct of a public health assessment under RCRA [42 U.S.C. 6939a(b)].

An ATSDR Public Health Assessment reviews available information about hazardous substances at a site and evaluates whether exposure to them might cause any harm to people. The ATSDR public health assessment includes an analysis and statement of the public health implications posed by the site under consideration. This analysis generally involves an evaluation of relevant environmental data, the potential for exposures to substances related to the site, available toxicologic, epidemiologic and health outcome data, and community concerns associated with a site where hazardous substances have been released. The public health assessment also identifies populations living or working on or near hazardous waste sites for which more extensive public health actions or studies are indicated.

This notice announces the availability of the draft Vieques Report: An Evaluation of Environmental, Biological, and Health Data from the Island of Vieques, Puerto Rico. ATSDR has worked to ensure that the analysis of Viequense environmental data is thorough; that it considers all readily available investigations and research, especially research completed since release of the 2001-2003 public health assessments.

ATSDR encourages the public's participation and comment on the further development of this report.

Dated: December 6, 2011.
Tom Sinks,
Deputy Director, National Center for Environmental Health/Agency for Toxic Substances and Disease Registry.

[FR Doc. 2011-31770 Filed 12-8-11; 11:15 am]

BILLING CODE 4163-70-P